DEPARTMENT OF HEALTH AND HUMAN SERVICES

Meeting of the Advisory Committee on Blood Safety and Availability

AGENCY: Department of Health and Human Services, Office of the Secretary.

ACTION: Notice.

SUMMARY: As stipulated by the Federal Advisory Committee Act, the U.S. Department of Health and Human Services is hereby giving notice that the Advisory Committee on Blood Safety and Availability (ACBSA) will hold a meeting. The meeting will be open to the public on both Thursday, May 10 and Friday, May 11, 2007.

DATES: The meeting will take place Thursday, May 10, 2007 and Friday, May 11, 2007 from 9 a.m. to 5 p.m.

ADDRESSES: Georgetown University Conference Center, 3800 Reservoir Road, NW., Washington, DC 20057.

FOR FURTHER INFORMATION CONTACT: Jerry A. Holmberg, PhD, Executive Secretary, Advisory Committee on Blood Safety and Availability, Office of Public Health and Science, Department of Health and Human Services, 1101 Wootton Parkway, Room 250, Rockville, MD 20852, (240) 453-8803, FAX (240) 453-8456, e-mail ACBSA@hhs.gov.

SUPPLEMENTARY INFORMATION: The ACBSA will receive updates on previous recommendations to include variant Creutzfeldt Jacob Disease (vCJD), Chagas, Transfusion Related Acute Lung Injury (TRALI) and West Nile Virus.

Since the last meeting, the Committee's Charter was modified and approved by Secretary Leavitt in October 2006 to include broad public health, ethical and legal issues related to transfusion and transplantation safety. In order to understand these areas of commonality, the main topic of this meeting will center on presentations and discussion of common concerns in transfusion and transplantation safety.

The new charter permits the expansion of the Committee ex-officio members to include agencies other than those currently having a permanent ex-officio seat. Representation from the Division of Organ Transplantation within the Health Resources and Services Administration (HRSA) and the Office of Cellular, Tissue, and Gene Therapy within the Food and Drug Administration (FDA) will be added as Committee ex-officio members.

Public comment will be solicited on Thursday, May 10, at noon and Friday, May 11, before noon. Comments will be limited to five minutes per speaker. Anyone planning to comment is encouraged to contact the Executive Secretary at his/her earliest convenience. Those who wish to have printed material distributed to Advisory Committee members should submit thirty (30) copies to the Executive Secretary prior to close of business May 7, 2007. Likewise, those who wish to utilize electronic data projection to the Committee must submit their materials to the Executive Secretary prior to close of business May 7, 2007.

Dated: April 13, 2007.
Jerry A. Holmberg,
Executive Secretary, Advisory Committee on Blood Safety and Availability.

[FR Doc. E7-7340 Filed 4-17-07; 8:45 am]

BILLING CODE 4150-41-P